DEPARTMENT OF LABOR

Comment Request for Information Collection for OMB 1205-0010, ETA 5159, Claims and Payment Activities Report; Extension Without Change

AGENCY: Employment and Training Administration (ETA), Labor.

ACTION: Notice.

SUMMARY: The Department of Labor, as part of its continuing effort to reduce paperwork and respondent burden, conducts a preclearance consultation program to provide the general public and Federal agencies with an opportunity to comment on proposed and/or continuing collection of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed.

Currently, ETA is soliciting comments concerning the proposed extension, without change on the Claims and Payments Activities, Form ETA 5159.

DATES: Submit written comments to the office listed in the addressee section below on or before May 1, 2015.

ADDRESSES: Send comments to Thomas Stengle, U.S. Department of Labor, Employment and Training Administration, Office of Unemployment Insurance, 200 Constitution Avenue NW., Frances Perkins Bldg. Room S-4524, Washington, DC 20210, telephone number (202) 693-2991 (this is not a toll-free number). Individuals with hearing or speech impairment may access the telephone number above via TTY by calling the toll-free Federal Information relay Service at 1-877-889-56-27 (TTY/TDD). Email: Stengle.Thomas@dol.gov. To obtain a copy of the proposed information collection request (ICR), please contact the person above.

SUPPLEMENTARY INFORMATION:

I. Background

The ETA 5159 report contains information on claims activities including the number of initial claims, first payments, weeks claimed, weeks compensated, benefit payments and final payments. These data are used in budgetary and administrative planning, program evaluation, actuarial and program research, and reports to Congress and the public.

II. Review Focus

The Department is particularly interested in comments which:

* Evaluate whether the proposed collection of information is necessary to describe claims and payment activities, including whether the information will have practical utility;

* Evaluate the accuracy of the agency's estimate of the burden of the proposed collection of information, including the validity of the methodology and assumptions used;

* Enhance the quality, utility, and clarity of the information to be collected; and

* Minimize the burden of the collection of information on those who are to respond, including the use of appropriate automated, electronic, mechanical, or other technological collection techniques or other forms of information technology, e.g., permitting electronic submissions of responses.

II. Current Actions

Type of Review: Extension without change.

Title: Claims and Payment Activities.

OMB Number: 1205-0010.

Affected Public: State Workforce Agencies.

Estimated Total Annual Respondents: 53.

Estimated Total Annual Responses: 636.

Average Time per Response: 2 hours.

Estimated Total Annual Burden Hours: 1,272 hours per year.

Total Estimated Annual Other Cost Burden: $0.

Comments submitted in response to this notice will be summarized and/or included in the request for OMB approval of the ICR; they will also become a matter of public record.

Portia Wu,
Assistant Secretary for Employment and Training Administration.

[FR Doc. 2015-04164 Filed 2-27-15; 8:45 am]

BILLING CODE 4510-FW-P